DEPARTMENT OF HEALTH AND HUMAN SERVICES

Prospective Grant of Exclusive Ownership of the Know The Facts First Campaign

AGENCY: Department of Health and Human Services, Office of the Secretary, Office of the Assistant Secretary for Health, Office on Women's Health.

ACTION: Notice.

SUMMARY: Pursuant to 42 U.S.C. 300u and 42 U.S.C. 237a (§ 3509 of the Patient Protection and Affordable Care Act), notice is given that the Office on Women's Health (OWH) is soliciting proposals from entities and organizations for the opportunity to sustain the implementation of the Know The Facts First public health awareness and education campaign.

DATES: Representatives of eligible organizations should submit expressions of interest no later than 6:00 p.m. EST on August 19, 2016.

ADDRESSES: Expressions of interest should be directed electronically to Womenshealth@hhs.gov or mailed to the Office on Women's Health, Office of the Assistant Secretary for Health, Department of Health and Human Services, 200 Independence Avenue SW., Room 732F.10, Washington, DC 20201. Attention Jill Wasserman.

FOR FURTHER INFORMATION CONTACT: Questions may be directed to Jill Wasserman, program lead for Know The Facts First, Office on Women's Health, 200 Independence Avenue SW, Room 732F.10, Washington, DC 20201. Email: Womenshealth@hhs.gov.

SUPPLEMENTARY INFORMATION: OWH launched the Know The Facts First campaign in December 2015 with the goal of providing teen girls (ages 13-19) with accurate information about sexually transmitted diseases (STDs) and STD prevention so that they can make informed decisions about sexual activity. After a year of implementation, OWH will bring its support of the campaign to a close in early 2017. OWH is looking for one organization that is interested in continuing the implementation of Know The Facts First by promoting campaign messages to teens nationally. Below are preferred qualifications that OWH is looking for in an organization to sustain the campaign:

• National reach;

• established presence with youth, especially teenagers;

• experience in communicating sensitive issues;

• mission or activities related to improving health among the public, especially among teens;

• ability to reach teens with campaign messages, especially those at high-risk for STDs;

• presence on digital platforms to support message dissemination to teens and their influencers;

• experience in managing Web sites;

• ability to host, maintain, and update the existing Know The Facts First microsite (http://girlshealth.gov/knowthefactsfirst) as a .org or .com Web site;

• experience in working with partners to disseminate messages;

• access to subject matter experts in sexual health and teens; and

• experience leading public awareness and education campaigns.

Expressions of interest should outline eligibility in response to the qualifications bulleted above and be no more than two pages in length.

Dated: July 13, 2016.
Nancy C. Lee,
Deputy Assistant Secretary for Health—Women's Health, Director, Office on Women's Health.

[FR Doc. 2016-17111 Filed 7-19-16; 8:45 am]

BILLING CODE 4150-42-P